DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 59277-59278, dated September 25, 2010) is amended to reflect the reorganization of the National Center for Environmental Health, Office of Noncommunicable Diseases, Injury and Environmental Health, Centers for Disease Control and Prevention.

Section C-B, Organization and Functions, is hereby amended as follows: After the title and functional statement for the Office of the Director (CUG1), National Center for Environmental Health (CUG), insert the following:

Office of Communication (CUG12). The Office of Communication (OC): (1) Serves as the principal advisor to the center director and divisions on communication and marketing science, research, practice, and public affairs; (2) leads center strategic planning for communication and marketing science and public affairs programs and projects; (3) analyzes context, situation, and environment to inform center-wide communication and marketing programs and projects; (4) ensures use of scientifically sound research for marketing and communication programs and projects; (5) ensures accurate, accessible, timely, and effective translation of science for use by multiple audiences; (6) leads identification and implementation of information dissemination channels; (7) provides communication and marketing project management expertise; (8) collaborates with external organizations and the news, public service, and entertainment and other media to ensure that scientific findings and their implications for public health reach the intended audiences; (9) collaborates closely with divisions to produce materials tailored to meet the requirements of news and other media channels, including press releases, letters to the editor, public service announcements, television programming, video news releases, and other electronic and printed materials; (10) coordinates the development and maintenance of accessible public information through the Internet, social media and other applicable channels; (11) provides training and technical assistance in the areas of health communication, risk communication, social marketing, and public affairs; (12) manages or coordinates communication services such as broadcast, graphics, photography, writing, and editing; (13) provides editorial services, including writing, editing, and technical editing; (14) facilitates internal communication to center staff and allied audiences; (15) supervises and manages OC activities, programs, and staff; (16) serves as liaison to internal and external groups to advance the center's mission; (17) collaborates with the CDC Office of the Associate Director for Communication on media relations, electronic communication, health media production, and brand management activities; (18) collaborates with the Office of Public Health Preparedness and Response and other NCEH/ATSDR entities to fulfill communication responsibilities in emergency response situations; (19) collaborates with other CDC Centers/Institute/Offices in the development of marketing communications targeted to populations that would benefit from a cross-functional approach; and (20) ensures NCEH/ATSDR materials meet CDC and Department of Health and Human Services standards.

Dated: September 27, 2010.
William P. Nichols,
Chief Operating Officer, Centers for Disease Control and Prevention.

[FR Doc. 2010-25223 Filed 10-8-10; 8:45 am]

BILLING CODE 4160-18-M